DEPARTMENT OF HEALTH AND HUMAN SERVICES

National Institutes of Health

National Institute of Arthritis and Musculoskeletal and Skin Diseases; Notice of Meeting

Pursuant to section 10(a) of the Federal Advisory Committee Act, as amended, notice is hereby given of a meeting of the National Arthritis and Musculoskeletal and Skin Diseases Advisory Council.

The meeting will be open to the public, with attendance limited to space available. Individuals who plan to attend and need special assistance, such as sign language interpretation or other reasonable accommodations, should notify the Contact Person listed below in advance of the meeting.

Name of Committee: National Arthritis and Musculoskeletal and Skin Diseases Advisory Council.

Date: November 18, 2021.

Time: 1:00 p.m. to 3:00 p.m.

Agenda: Report from the AMP-AIM Working Group of Council.

Place: National Institutes of Health, 6701 Democracy Blvd., Democracy I, Suite 800, Bethesda, MD 20892-4872, https://videocast.nih.gov/watch=41919 (Virtual Meeting).

Virtual Access: The meeting will be videocast and can be accessed from the NIH Videocast https://videocast.nih.gov/watch=41919. Please note, the link to the videocast meeting will be posted within a week of the meeting date. Any member of the public may submit written comments no later than 15 days after the meeting.

Contact Person: Melinda Nelson, Ph.D., Director, Office of Extramural Operations, 6701 Democracy Blvd., Democracy I, Suite 800, Bethesda, MD 20892-4872, 301-435-5278, nelsonm@mail.nih.gov.

Any interested person may file written comments with the committee by forwarding the statement to the Contact Person listed on this notice. The statement should include the name, address, telephone number and when applicable, the business or professional affiliation of the interested person.

(Catalogue of Federal Domestic Assistance Program Nos. 93.846, Arthritis, Musculoskeletal and Skin Diseases Research, National Institutes of Health, HHS)

Dated: September 29, 2021.
Miguelina Perez,
Program Analyst, Office of Federal Advisory Committee Policy.

[FR Doc. 2021-21513 Filed 10-1-21; 8:45 am]

BILLING CODE 4140-01-P